OFFICE OF PERSONNEL MANAGEMENT

Excepted Service; Consolidated Listing of Schedules A, B, and C Exceptions

AGENCY: Office of Personnel Management.

ACTION: Notice.

SUMMARY: This provides the consolidated notice of all agency-specific excepted authorities, approved by the Office of Personnel Management (OPM), under Schedule A, B, and C, as of June 30, 2016, as required by Civil Service Rule VI, Exceptions from the Competitive Service.

FOR FURTHER INFORMATION CONTACT: Senior Executive Resources Services, Senior Executive Services and Performance Management, Employee Services, 202-606-2246.

SUPPLEMENTARY INFORMATION: Civil Service Rule VI (5 CFR 6.1) requires the Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval.

OPM maintains continuing information on the status of all Schedule A, B, and C appointing authorities. Interested parties needing information about specific authorities during the year may obtain information by writing to the Senior Executive Resources Services, Office of Personnel Management, 1900 E Street NW, Room 7412, Washington, DC 20415, or by calling 202-606-2246.

The following exceptions are current as of June 30, 2016.

Schedule A

03. Executive Office of the President (Sch. A, 213.3103)

(a) Office of Administration—

(1) Not to exceed 75 positions to provide administrative services and support to the White House Office.

(b) Office of Management and Budget—

(1) Not to exceed 20 positions at grades GS-5/15.

(2) Not to exceed 85 positions that require unique technical skills needed for the re-designing and re-building of digital interfaces between citizens, businesses, and government as a part of the Smarter Information Technology Delivery Initiative. This authority may be used to make permanent, time-limited and temporary appointments to Digital Services Expert positions (GS-0301) directly related to the implementation of the Smarter Information Technology Delivery Initiative at the GS-14/15 level. No new appointments may be made under this authority after September 30, 2017.

(c) Council on Environmental Quality—

(1) Professional and technical positions in grades GS-9/15 on the staff of the Council.

(d)-(f) (Reserved)

(g) National Security Council—

(1) All positions on the staff of the Council.

(h) Office of Science and Technology Policy—

(1) Thirty positions of Senior Policy Analyst, GS-15; Policy Analyst, GS-11 through 14; and Policy Research Assistant, GS-9, for employment of anyone not to exceed five years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5/11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13/15 or Senior Level (SL) to supplement permanent staff in the study of complex problems relating to international financial, economic, trade, and energy policies and programs of the Government, when filled by individuals with special qualifications for the particular study being undertaken. Employment under this authority may not exceed four years.

(2) Covering no more than 100 positions supplementing permanent staff studying domestic economic and financial policy, with employment not to exceed four years.

(3) Not to exceed 100 positions in the Office of the Under Secretary for Terrorism and Financial Intelligence.

(4) Up to 35 temporary or time-limited positions at the GS-9/15 grade levels to support the organization, design, and stand-up activities for the Consumer Financial Protection Bureau (CFPB), as mandated by P.L. 111-203. This authority may be used for the following series: GS-0201, GS-0501, GS-0560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12/15 or Senior Level (SL), for initial employment not to exceed four years. No new appointments may be made under this authority after December 31, 2012.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense (DOD), when occupied by alien scientists initially employed under the program including those who have acquired United States citizenship during such employment.

(6) Positions in overseas installations of the DOD when filled by dependents of military or civilian employees of the U.S. Government residing in the area. Employment under this authority may not extend longer than two months following the transfer from the area or separation of a dependent's sponsor: Provided that

(i) A school employee may be permitted to complete the school year; and

(ii) An employee other than a school employee may be permitted to serve up to one additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 9/15 or equivalent. No new appointments may be made under this authority after December 31, 2017.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed six years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed three years, which may be renewed in increments from one to two years thereafter.

(j) Asia-Pacific Center for Security Studies, Honolulu, Hawaii—

(1) The Director, Deputy Director, Dean of Academics, Director of College, deputy department chairs, and senior positions of professor, associate professor, and research fellow within the Asia Pacific Center. Appointments may be made not to exceed three years and may be extended for periods not to exceed three years.

(k) Business Transformation Agency—

(1) Fifty temporary or time-limited (not to exceed four years) positions, at grades GS-11/15. The authority will be used to appoint persons in the following series: Management and Program Analysis, GS-0343: Logistics Management, GS-0346; Financial Management Programs, GS-0501; Accounting, GS-0510; Computer Engineering, GS-0854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed three years and may, with prior approval of OPM, be extended for an additional period of two years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed five years, which may be renewed in 1-, 2-, 3-, 4-, or 5-year increments indefinitely thereafter.

(i) (Reserved)

(j) U.S. Military Academy Preparatory School, Fort Monmouth, New Jersey—

(1) Positions of Academic Director, Department Head, and Instructor.

(k) U.S. Army Command and General Staff College, Fort Leavenworth, Kansas—

(1) Positions of professor, associate professor, assistant professor, and instructor associated with courses of instruction of at least 10 months duration, for employment not to exceed up to five years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11/15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5/15, in the Air Force Office of Special Investigations.

(g) Wright-Patterson Air Force Base, Ohio—

(1) Not to exceed eight positions, GS-12/15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed two years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9/15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 9/15. No new appointments may be made under this authority after March 31, 2017.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below, for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least six months have elapsed since the individual's latest appointment under this authority. (Formerly 213.3195(b))

(3) Not to exceed 350 professional and technical positions at grades GS-5/15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed six months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond one year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for one year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of six months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Managers, supervisors, technicians, clerks, interviewers, and enumerators in the field service, for time-limited employment to conduct a census.

(2) Current Program Interviewers employed in the field service.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed two years for an individual appointee.

(2) (Reserved)

(3) Not to exceed 15 positions in grades GS-12/15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed two years and may, with prior OPM approval, be extended for an additional two years.

(j) National Oceanic and Atmospheric Administration—

(1)-(2) (Reserved)

(3) All civilian positions on vessels operated by the National Ocean Service.

(4) Temporary positions required in connection with the surveying operations of the field service of the National Ocean Service. Appointment to such positions shall not exceed eight months in any one calendar year.

(k) (Reserved)

(l) National Telecommunication and Information Administration—

(1) Thirty-eight professional positions in grades GS-13/15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed four years of service in health manpower shortage areas.

(11)-(15) (Reserved)

(c)-(e) (Reserved)

(f) The President's Council on Physical Fitness—

(1) Four staff assistants.

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of nine years, and may be renewed.

(2) Positions, GS-15, when filled by a non-member of the Board who is awaiting Presidential approval for appointment as a Board member.

(d) Vietnam Era Veterans Readjustment Counseling Service—

(1) Not to exceed 600 positions at grades GS-3/11, involved in the Department's Vietnam Era Veterans Readjustment Counseling Service.

(e) Not to exceed 75 positions that require unique technical skills needed for the re-designing and re-building of digital interfaces between citizens, businesses, and government as a part of the Smarter Information Technology Delivery Initiative. This authority may be used to make permanent, time-limited and temporary appointments to non-supervisory Digital Services Expert positions (GS-0301) directly related to the implementation of the Smarter Information Technology Delivery Initiative at the GS-15 level. No new appointments may be made under this authority after September 30, 2017.

32. Small Business Administration (Sch. A, 213.3132)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed four years, and no more than two years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of two years without a break in service of at least six months. Persons who have had more than two years of service under paragraph (a) of this section must have a break in service of at least eight months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed seven years.

36. U.S. Soldiers' and Airmen's Home (Sch. A, 213.3136)

(a) (Reserved)

(b) Positions when filled by member-residents of the Home.

37. General Services Administration (Sch. A, 213.3137)

(a) Not to exceed 203 positions that require unique technical skills needed for the re-designing and re-building of digital interfaces between citizens, businesses, and government as a part of the Smarter Information Technology Delivery Initiative. This authority may be used nationwide to make permanent, time-limited and temporary appointments to Digital Services Expert positions (GS-301) directly related to the implementation of the Smarter Information Technology Delivery Initiative at the GS-11t o 15. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Directors and Deputy Resident Country Directors. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13/15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13/15 grade levels and within authorized SL allocations necessary to support the following credit agency programs of the Department: The Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-0301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for Trade Negotiations—

(1) Seventeen positions of economist at grades GS-12/15.

04. Department of State (Sch. B, 213.3204)

(a) (1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12/15 when filled by persons having special qualifications in foreign policy matters. Total employment under this authority may not exceed four years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

06. Department of Defense (Sch. B, 213.3206)

(a) Office of the Secretary—

(1) (Reserved)

(2) Professional positions at GS-11/15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed three years, which may be renewed in any increment from one to six years indefinitely thereafter.

(d) General—

(1) One position of Law Enforcement Liaison Officer (Drugs), GS-0301-15, U.S. European Command.

(2) Acquisition positions at grades GS-5/11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed four years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-0301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed three years, with an option to renew or extend the appointments in increments of 1-, 2-, or 3- years indefinitely thereafter.

(b)-(c) (Reserved)

(d) Air University—Positions of Instructor or professional academic staff at the Air University associated with courses of instruction of varying durations, for employment not to exceed three years, which may be renewed for an indefinite period thereafter.

(e) U.S. Air Force Academy, Colorado—One position of Director of Development and Alumni Programs, GS-0301-13.

10. Department of Justice (Sch. B, 213.3210)

(a) Drug Enforcement Administration—

Criminal Investigator (Special Agent) positions in the Drug Enforcement Administration. New appointments may be made under this authority only at grades GS-5/11. Service under the authority may not exceed four years. Appointments made under this authority may be converted to career or career-conditional appointments under the provisions of Executive Order 12230, subject to conditions agreed upon between the Department and OPM.

(b) (Reserved)

(c) Not to exceed 400 positions at grades GS-5/15 assigned to regional task forces established to conduct special investigations to combat drug trafficking and organized crime.

(d) (Reserved)

(e) United States Trustees—Positions, other than secretarial, GS-6/15, requiring knowledge of the bankruptcy process, on the staff of the offices of United States Trustees or the Executive Office for U.S. Trustees.

(f) Bureau of Alcohol, Tobacco, and Firearms

(1) Positions, grades GS-5/12 (or equivalent), of Criminal Investigator. Service under this authority may not exceed three years and 120 days.

11. Department of Homeland Security (Sch. B, 213.3211)

(a) Coast Guard.

(1) (Reserved)

(b) Secret Service—Positions concerned with the protection of the life and safety of the President and members of his immediate family, or other persons for whom similar protective services are prescribed by law, when filled in accordance with special appointment procedures approved by OPM. Service under this authority may not exceed:

(1) a total of four years; or

(2) 120 days following completion of the service required for conversion under Executive Order 11203.

13. Department of Agriculture (Sch. B, 213.3213)

(a) Foreign Agricultural Service—

(1) Positions of a project nature involved in international technical assistance activities. Service under this authority may not exceed five years on a single project for any individual unless delayed completion of a project justifies an extension up to but not exceeding two years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed two years and may be extended for up to two additional years. Extensions beyond four years, up to a maximum of two additional years, may be granted, but only in very rare and unusual circumstances, as determined by the Human Resources Officer for the Research, Education, and Economics Mission Area, or the Human Resources Officer, Forest Service.

(2) Not to exceed 55 Executive Director positions, GM-0301-14/15, with the State Rural Development Councils in support of the Presidential Rural Development Initiative.

14. Department of Commerce (Sch. B, 213.3214)

(a) Bureau of the Census—

(1) (Reserved)

(2) Not to exceed 50 Community Services Specialist positions at the equivalent of GS-5/12.

(b)-(c) (Reserved)

(d) National Telecommunications and Information Administration—

(1) Not to exceed 10 Telecommunications Policy Analysts, grades GS-11/15. Employment under this authority may not exceed two years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed one year.

(b) Fifty positions, GS-7/11, concerned with advising on education policies, practices, and procedures under unusual and abnormal conditions. Persons employed under this provision must be bona fide elementary school and high school teachers. Appointments under this authority may be made for a period of not to exceed one year, and may, with the prior approval of the Office of Personnel Management, be extended for an additional period of one year.

27. Department of Veterans Affairs (Sch. B, 213.3227)

(a) Not to exceed 800 principal investigatory, scientific, professional, and technical positions at grades GS-11 and above in the medical research program.

(b) Not to exceed 25 Criminal Investigator (Undercover) positions, GS-1811-5/12, conducting undercover investigations in the Veterans Health Administration (VA) supervised by the VA, Office of Inspector General. Initial appointments shall be greater than one year, but not to exceed four years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11/15. Employment under this authority may not exceed three years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9/15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11/15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13/14. Appointments may be made for any period up to three years and may be extended without prior approval for any individual. Not more than half of the authorized faculty positions at any one Executive Seminar Center may be filled under this authority.

(b) Federal Executive Institute—No more than 57 positions of faculty members at grades GS-13/15. Initial appointments under this authority may be made for any period up to three years and may be extended in 1, 2, or 3 year increments.

Schedule C
Agency name | Organization name | Position title | Authorization No. | Effective date
DEPARTMENT OF AGRICULTURE | Farm Service Agency | State Executive Director—Virginia | DA150160 | 7/15/2015
|  | Chief of Staff | DA150168 | 8/11/2015
|  | State Executive Director—Oklahoma | DA160015 | 11/24/2015
|  | State Executive Director—New Hampshire | DA160033 | 1/6/2016
|  | State Executive Director—Rhode Island | DA160077 | 3/4/2016
|  | State Executive Director—Maryland | DA160091 | 3/30/2016
|  | State Executive Director—Wisconsin | DA160111 | 4/15/2016
| Natural Resources Conservation Service | Deputy Chief of Staff | DA150161 | 7/28/2015
| Office of the Under Secretary for Food Safety | Chief of Staff | DA150164 | 7/28/2015
| Office of the Assistant Secretary for Congressional Relations | Legislative Analyst (5) | DA150167 DA150185 DA160002 DA160009 DA160148 | 8/4/2015 9/4/2015 10/6/2015 11/9/2015 6/24/2016
|  | Senior Legislative Analyst | DA150196 | 9/30/2015
|  | Director, Intergovernmental Affairs | DA160026 | 12/22/2015
|  | Confidential Assistant (2) | DA160113 DA160149 | 4/29/2016 6/24/2016
|  | Deputy Director, Intergovernmental Affairs | DA160136 | 6/10/2016
|  | Director of Oversight | DA160145 | 6/24/2016
| Rural Housing Service | State Director—North Dakota | DA150169 | 8/7/2015
|  | State Director—California | DA160021 | 12/11/2015
|  | State Director—Montana | DA160067 | 2/5/2016
|  | State Director—Washington | DA160090 | 3/30/2016
|  | Senior Advisor (2) | DA160081 DA160112 | 3/17/2016 4/14/2016
| Office of the Under Secretary for Marketing and Regulatory Programs | Chief of Staff (2) | DA150186 DA160082 | 8/31/2015 3/30/2016
|  | Confidential Assistant | DA160035 | 1/19/2016
| Rural Utilities Service | Policy Advisor | DA150190 | 9/17/2015
|  | Senior Advisor | DA160028 | 12/22/2015
| Office of the Under Secretary for Rural Development | Special Advisor (2) | DA150192 DA160142 | 9/22/2015 6/24/2016
|  | Confidential Assistant | DA160087 | 3/17/2016
|  | Chief of Staff | DA160084 | 3/28/2016
|  | Senior Advisor | DA160110 | 4/14/2016
| Office of the Under Secretary for Research, Education, and Economics | Special Assistant | DA160004 | 10/19/2015
|  | Senior Advisor | DA160085 | 3/18/2016
| Office of the Secretary | White House Liaison (2) | DA160007 DA160141 | 10/19/2015 6/22/2016
|  | Deputy White House Liaison | DA160073 | 2/26/2016
|  | Confidential Assistant (2) | DA160019 DA160147 | 12/4/2015 6/23/2016
|  | Special Assistant (3) | DA160031 DA160122 DA160123 | 1/6/2016 5/12/2016 5/12/2016
|  | Senior Advisor (3) | DA160032 DA160030 DA160094 | 1/6/2016 1/16/2016 4/1/2016
|  | Special Assistant and Advisor | DA160071 | 2/18/2016
| Office of Under Secretary for Natural Resources and Environment | Confidential Assistant | DA160010 | 11/9/2015
|  | Chief of Staff | DA160133 | 5/24/2016
| Office of Communications | Scheduler | DA160012 | 11/24/2015
|  | Deputy Director of Scheduling | DA160014 | 12/1/2015
|  | Senior Advisor for Strategic Communications | DA160083 | 3/17/2016
|  | Deputy Press Secretary | DA160080 | 3/18/2016
|  | Advance Associate | DA160144 | 6/23/2016
| Office of the Deputy Secretary | Special Assistant | DA160013 | 11/24/2015
| Office of the General Counsel | Senior Counselor | DA160027 | 12/22/2015
| Office of Civil Rights | Special Advisor | DA160029 | 1/5/2016
| Office of the Under Secretary Farm and Foreign Agricultural Service | State Executive Director | DA160070 | 2/19/2016
|  | Deputy Chief of Staff | DA160126 | 5/13/2016
|  | Senior Advisor | DA160137 | 6/10/2016
| Rural Business Service | Senior Advisor | DA160089 | 3/30/2016
| Office of the Chief Information Officer | Senior Advisor | DA160092 | 4/14/2016
| Office of Small and Disadvantaged Business Utilization | Director | DA160125 | 5/13/2016
| Foreign Agricultural Service | Deputy Chief of Staff | DA160132 | 5/24/2016
|  | Special Assistant | DA160119 | 6/1/2016
| Office of the Assistant Secretary for Civil Rights | Chief of Staff | DA160143 | 6/22/2016
|  | Senior Advisor | DA160140 | 6/24/2016
APPALACHIAN REGIONAL COMMISSION | Office of the Chairman | Special Assistant—Chair | AP160001 | 4/4/2016
DEPARTMENT OF COMMERCE | Office of the Executive Secretariat | Associate Director (2) | DC150120 DC150121 | 7/6/2015 7/6/2015
|  | Deputy Director | DC150163 | 8/25/2015
|  | Special Advisor | DC160024 | 11/18/2015
| Office of the Under Secretary | Special Assistant (2) | DC150130 DC160103 | 7/20/2015 3/17/2016
|  | Senior Advisor (8) | DC160003 DC160004 DC160011 DC160017 DC160043 DC160111 DC160148 DC160021 | 10/6/2015 10/6/2015 10/21/2015 11/5/2015 12/4/2015 3/18/2016 4/29/2016 11/13/2015
|  | Chief Speechwriter and Senior Advisor | DC160091 | 2/17/2016
|  | Chief Communications Officer | DC160094 | 2/23/2016
|  | Deputy Chief Communications Officer for Strategic Communications | DC160095 | 3/2/2016
| Office of Public Affairs | Deputy Press Secretary | DC150132 | 7/20/2015
|  | Deputy Speechwriter | DC150153 | 8/25/2015
|  | Press Assistant (2) | DC150156 DC160165 | 8/25/2015 6/22/2016
|  | Deputy Director of Public Affairs and Press Secretary | DC160006 | 10/6/2015
|  | Deputy Director of Public Affairs and Director of Digital Strategy and Engagement | DC160007 | 10/8/2015
|  | Deputy Director of Public Affairs and Director of Speechwriting (2) | DC160015 DC160106 | 10/28/2015 3/14/2016
|  | Chief Speechwriter and Advisor | DC160054 | 1/4/2016
|  | Deputy Director of Speechwriting | DC160107 | 3/18/2016
|  | Speechwriter and Press Assistant | DC160141 | 5/6/2016
| Office of the Assistant Secretary for Industry and Analysis | Special Assistant (2) | DC150131 DC160014 | 7/24/2015 10/30/2015
|  | Director, Office of Advisory Committees and Industry Outreach | DC160041 | 12/4/2015
|  | Deputy Director, Office of Advisory Committees and Industry Outreach | DC160053 | 1/4/2016
|  | Senior Director | DC160101 | 3/7/2016
| Office of Legislative and Intergovernmental Affairs | Associate Director for Oversight (2) | DC150141 DC150145 | 7/30/2015 8/5/2015
|  | Special Assistant | DC150138 | 7/31/2015
|  | Confidential Assistant | DC160105 | 3/14/2016
|  | Associate Director | DC160108 | 3/17/2016
|  | Director of Intergovernmental Affairs | DC160161 | 6/17/2016
| Economics and Statistics Administration | Special Assistant | DC150136 | 7/31/2015
|  | Press Secretary (2) | DC150171 DC160146 | 9/10/2015 4/25/2016
|  | Senior Advisor | DC160163 | 6/22/2016
| Office of Director General of the United States and Foreign Commercial Service and Assistant Secretary for Global Markets | Advisor | DC150140 | 7/31/2015
|  | Special Advisor | DC150149 | 8/19/2015
| Office of the Director | Senior Advisor (2) | DC150139 DC160117 | 8/7/2015 3/21/2016
|  | Senior Advisor for Minority-Owned Business Enterprise Policy | DC160031 | 11/25/2015
|  | Associate Director of Legislative, Education and Intergovernmental Affairs | DC160033 | 11/25/2015
| Office of the Deputy Secretary | Deputy Chief Data Officer | DC150144 | 8/11/2015
| Office of the Chief of Staff | Advance Assistant | DC150146 | 8/11/2015
|  | Scheduler | DC160029 | 11/23/2015
|  | Director, Office of Faith Based and Neighborhood Partnerships | DC160034 | 1/13/2016
|  | Scheduling Assistant | DC160083 | 2/2/2016
|  | Advance Specialist | DC160088 | 2/23/2016
| Office of Policy and Strategic Planning | Senior Policy Advisor | DC150147 | 8/11/2015
|  | Confidential Assistant | DC150164 | 9/4/2015
|  | Special Assistant | DC160020 | 11/10/2015
| Office of Scheduling and Advance | Scheduler | DC150157 | 8/25/2015
|  | Special Assistant | DC150165 | 9/4/2015
| Office of the Deputy Assistant Secretary | Policy Advisor | DC150154 | 9/4/2015
|  | Special Advisor | DC160116 | 3/30/2016
|  | Associate Director of Strategic Partnerships | DC160100 | 2/26/2016
| Office of the Deputy Assistant Secretary for Domestic Operations | Special Advisor | DC150167 | 9/11/2015
| Immediate Office of the Secretary | Executive Assistant | DC150168 | 9/11/2015
|  | Special Advisor | DC160090 | 2/17/2016
| National Travel and Tourism Office | Special Assistant | DC160002 | 10/6/2015
| Office of the Assistant Secretary for Economic Development | Special Assistant | DC160005 | 10/6/2015
|  | Senior Advisor | DC160038 | 1/6/2016
|  | Director of External Affairs | DC160151 | 5/10/2016
|  | Director of Public Affairs | DC160157 | 6/3/2016
| Office of the Chief Information Officer | Chief of Staff | DC160010 | 10/21/2015
| Office of the Assistant Secretary for Enforcement and Compliance | Senior Advisor | DC160030 | 11/23/2015
|  | Special Assistant | DC160075 | 1/15/2016
|  | Chief of Staff for Administration | DC160042 | 12/4/2015
|  | Director, Shared Services Change and Communications Management | DC160096 | 2/23/2016
| Office of the Chief Financial Officer and Assistant Secretary for Administration | Senior Advisor and Chief of Staff for Administration | DC160119 | 4/19/2016
| Office of Business Liaison | Special Assistant | DC160110 | 3/21/2016
|  | Senior Advisor | DC160164 | 6/17/2016
| Office of the White House Liaison | Special Assistant | DC160122 | 4/13/2016
| Bureau of Industry and Security | Congressional Affairs Specialist | DC160124 | 4/15/2016
|  | Special Advisor | DC160150 | 5/10/2016
| Office of the General Counsel | Senior Counsel | DC160143 | 4/25/2016
| Advocacy Center | Special Advisor | DC160149 | 4/29/2016
|  | Policy Advisor | DC160162 | 6/17/2016
COMMISSION ON CIVIL RIGHTS | Office of the Commissioners | Special Assistant | CC160001 | 11/18/2015
COMMODITY FUTURES TRADING COMMISSION | Office of the Chairperson | Public Affairs Specialist (Speechwriter) | CT150002 | 7/16/2015
|  | Policy Advisor | CT150003 | 9/10/2015
|  | Special Advisor | CT160001 | 2/3/2016
CONSUMER PRODUCT SAFETY COMMISSION | Office of Commissioners | Special Assistant | PS150006 | 9/15/2015
|  | Director, Office of Congressional Relations | PS160001 | 10/7/2015
|  | Special Assistant (Legal) | PS160002 | 11/12/2015
COUNCIL ON ENVIRONMENTAL QUALITY | Office of the Director | Associate Director for Land and Water | EQ160001 | 6/24/2016
DEPARTMENT OF DEFENSE | Office of the Secretary | Special Assistant (7) | DD150155 DD150150 DD160004 DD160067 DD160084 DD160087 DD160147 | 7/1/2015 7/2/2015 10/15/2015 3/17/2016 3/18/2016 4/1/2016 5/20/2016
|  | Advance Officer (4) | DD150167 DD160022 DD160047 DD160086 | 7/31/2015 12/9/2015 1/28/2016 4/4/2016
|  | Protocol Officer (2) | DD160008 DD160011 | 10/26/2015 10/28/2015
|  | Deputy White House Liaison | DD160016 | 11/13/2015
|  | Confidential Assistant | DD160026 | 12/14/2015
|  | Director of Operations | DD160085 | 3/18/2016
|  | Director, Travel Operations | DD160146 | 5/23/2016
| Office of Assistant Secretary of Defense (Public Affairs) | Speechwriter (3) | DD150153 DD160078 DD160089 | 7/8/2015 3/17/2016 3/23/2016
| Washington Headquarters Services | Defense Fellow (8) | DD150151 DD150173 DD150201 DD150202 DD150203 DD150204 DD160007 DD160024 | 7/13/2015 8/20/2015 10/13/2015 10/21/2015 10/21/2015 10/21/2015 10/23/2015 12/9/2015
| Office of the Under Secretary of Defense (Acquisition, Technology, and Logistics) | Special Assistant for Energy, Installations and Environment | DD150162 | 7/21/2015
| Office of the Assistant Secretary of Defense (Legislative Affairs) | Special Assistant (Chief, Acquisition, Technology and Logistics) | DD150163 | 7/21/2015
|  | Special Assistant (2) | DD150198 DD160027 | 10/13/2015 12/15/2015
|  | Special Assistant (Legislative Affairs) (Team Chief, Personnel and Readiness) | DD160012 | 10/30/2015
|  | Special Assistant (Legislative Affairs) (Chief, Policy) | DD160068 | 3/1/2016
|  | Special Assistant (Policy) | DD160080 | 3/4/2016
|  | Special Assistant (Legislative Affairs) | DD160069 | 4/19/2016
| Office of the Director, Operational Test and Evaluation | Special Assistant | DD150166 | 7/21/2015
| Office of the Under Secretary of Defense (Personnel and Readiness) | Special Assistant for Personnel and Readiness (4) | DD150154 DD160010 DD160031 DD160083 | 7/27/2015 10/30/2015 12/28/2015 3/17/2016
| Office of the Director of Defense Research and Engineering | Special Assistant for Research and Engineering | DD150178 | 8/21/2015
| Office of the Assistant Secretary of Defense (Asian and Pacific Security Affairs) | Special Assistant for Afghanistan, Pakistan and Central Asia (2) | DD150172 DD160001 | 8/24/2015 10/30/2015
|  | Special Assistant for South and Southeast Asia | DD160088 | 4/1/2016
|  | Special Assistant for East Asia | DD160137 | 5/10/2016
| Office of the Assistant Secretary of Defense (International Security Affairs) | Special Assistant for Middle East Policy | DD150175 | 8/24/2015
|  | Senior Advisor for Russia, Ukraine and Eurasia Policy | DD150184 | 9/16/2015
|  | Special Assistant for Nuclear Missile Defense Policy | DD150200 | 10/21/2015
|  | Special Assistant for Russia, Ukraine and Eurasia | DD160060 | 1/15/2016
|  | Special Assistant | DD160057 | 1/20/2016
|  | Senior Advisor (Europe/North Atlantic Treaty Organization) | DD160002 | 3/4/2016
|  | Special Assistant (Middle East Policy) | DD160100 | 4/14/2016
|  | Special Assistant for the Middle East | DD160145 | 5/18/2016
| Office of the Deputy Chief Management Officer | Special Assistant | DD150185 | 9/3/2015
| Office of the Under Secretary of Defense (Policy) | Special Assistant for Afghanistan, Pakistan, and Central Asia | DD150179 | 9/16/2015
|  | Special Advisor for Russia/Ukraine External Affairs | DD150199 | 10/9/2015
|  | Special Assistant for Deputy Assistant Secretary of Defense for Plans | DD160064 | 2/4/2016
|  | Special Assistant for Strategy, Plans, and Forces | DD160092 | 4/8/2016
|  | Special Assistant for Afghanistan, Pakistan, and Central Asia | DD160098 | 4/13/2016
|  | Chief of Staff for Special Operations and Combatting Terrorism | DD160151 | 6/8/2016
| Office of the Under Secretary of Defense (Intelligence) | Special Assistant (Intelligence) | DD150189 | 9/18/2015
| Office of the Under Secretary of Defense (Comptroller) | Special Assistant (Budget and Appropriations Affairs) | DD160015 | 11/16/2015
| Office of the Assistant Secretary of Defense (Special Operations/Low Intensity Conflict and Interdependent Capabilities) | Special Assistant for Special Operations/Low Intensity Conflict | DD160054 | 1/14/2016
|  | Special Assistant (Special Operations and Low-Intensity Conflict) | DD160071 | 3/3/2016
|  | Chief of Staff for Stability and Humanitarian Affairs | DD160148 | 5/25/2016
| Office of the Assistant Secretary of Defense (Global Strategic Affairs) | Special Assistant, Plans and Capabilities | DD160033 | 2/10/2016
| Office of the Assistant Secretary of Defense (Homeland Defense and America's Security Affairs) | Special Assistant for Cyber Policy | DD160077 | 3/2/2016
DEPARTMENT OF THE AIR FORCE | Office of the Assistant Secretary Air Force for Acquisition | Director of Private Sector Engagement | DF160035 | 5/10/2016
DEPARTMENT OF THE ARMY | Office of the Assistant Secretary Army (Installations, Energy and Environment) | Special Assistant (Installations, Energy and Environment) | DW150050 | 7/1/2015
| Office of the Assistant Secretary Army (Acquisition, Logistics and Technology) | Senior Advisor (Acquisition, Logistics and Technology) | DW150055 | 8/26/2015
| Office of the Secretary of the Army | Special Assistant | DW160048 | 6/17/2016
DEPARTMENT OF THE NAVY | Office of the Under Secretary of the Navy | Senior Advisor | DN160012 | 3/18/2016
DEPARTMENT OF EDUCATION | Office of the General Counsel | Associate General Counsel (2) | DB150107 DB160080 | 7/1/2015 4/28/2016
|  | Deputy Chief of Staff | DB160056 | 3/17/2016
|  | Senior Counsel | DB160069 | 4/19/2016
| Office of the Under Secretary | Special Assistant for Strategic Operations | DB150108 | 7/8/2015
|  | Special Assistant (3) | DB150113 DB160078 DB160096 | 8/5/2015 4/29/2016 6/7/2016
|  | Executive Director, White House Initiative on Historically Black Colleges and Universities | DB150126 | 10/1/2015
|  | Senior Policy Advisor | DB160002 | 10/29/2015
|  | Policy Advisor, White House Initiative on American Indian and Alaska Native | DB160004 | 11/12/2015
|  | Executive Director, White House Initiative on Asian Americans and Pacific Islanders | DB160005 | 11/13/2015
|  | Director of Strategic Communications | DB160006 | 11/23/2015
|  | Chief of Staff, White House Initiative on Historically Black Colleges | DB160015 | 12/11/2015
|  | Director of College Scorecard | DB160023 | 1/21/2016
|  | Policy Advisor (2) | DB160022 DB160068 | 2/10/2016 4/14/2016
|  | Assistant Director, White House Initiative on Educational Excellence for African Americans | DB160041 | 3/2/2016
|  | Deputy Director, White House Initiative on Educational Excellence for Hispanics | DB160074 | 4/26/2016
|  | Chief of Staff, White House Initiative on Educational Excellence for Hispanics | DB160091 | 5/18/2016
|  | Deputy Director, White House Initiative on Asian American and Pacific Islanders | DB160085 | 5/19/2016
|  | Confidential Assistant | DB160098 | 6/7/2016
| Office of Elementary and Secondary Education | Deputy Assistant Secretary for Policy and Strategic Initiatives | DB150109 | 7/8/2015
|  | Confidential Assistant | DB150125 | 9/29/2015
|  | Strategic Communications Manager | DB160020 | 1/8/2016
|  | Special Assistant | DB160064 | 3/29/2016
|  | Director of Strategic Initiatives | DB160070 | 4/19/2016
|  | Chief of Staff | DB160079 | 4/28/2016
|  | Confidential Assistant, Special Projects | DB160088 | 5/19/2016
| Office of the Secretary | Deputy Director of Scheduling and Advance | DB150112 | 7/27/2015
|  | Special Assistant | DB150122 | 9/4/2015
|  | Deputy Director of Advance | DB150124 | 9/29/2015
|  | Strategic Operations Manager | DB160003 | 10/30/2015
|  | Deputy Director, Strategic Partnership | DB160008 | 11/23/2015
|  | Chief of Staff, Strategic Partnerships | DB160011 | 11/24/2015
|  | Director of Scheduling and Advance | DB160021 | 1/8/2016
|  | Director of Advance | DB160031 | 2/3/2016
|  | Deputy Director, Education Technology | DB160033 | 2/3/2016
|  | Director of Scheduling and Advance | DB160037 | 2/17/2016
|  | Special Advisor | DB160038 | 3/9/2016
|  | Director, White House Liaison | DB160053 | 3/17/2016
|  | Deputy Director, White House Liaison | DB160060 | 3/21/2016
|  | Deputy Director of Advance | DB160059 | 3/24/2016
|  | Director of Strategic Initiatives | DB160075 | 4/26/2016
|  | Change Management Director | DB160086 | 5/12/2016
|  | Leadership Development Director | DB160087 | 5/12/2016
|  | Deputy Director of Scheduling and Advance | DB160089 | 5/13/2016
| Office of Legislation and Congressional Affairs | Confidential Assistant (2) | DB150114 DB160103 | 8/5/2015 6/27/2016
|  | Special Assistant | DB160009 | 11/24/2015
|  | Director of Budget and Appropriations | DB160014 | 12/14/2015
|  | Director of Outreach and Engagement | DB160018 | 12/22/2015
|  | Deputy Assistant Secretary for Legislative Affairs | DB160076 | 4/29/2016
|  | Principal Advisor for Legislative Affairs | DB160077 | 4/29/2016
|  | Deputy Chief of Staff | DB160095 | 6/7/2016
| Office of the Deputy Secretary | Confidential Assistant | DB150115 | 8/10/2015
|  | Deputy Chief of Staff | DB150127 | 10/1/2015
|  | Senior Policy Advisor | DB160065 | 3/29/2016
| Office of Communications and Outreach | Deputy Chief of Staff (2) | DB150117 DB160024 | 8/19/2015 1/21/2016
|  | Senior Writer | DB150119 | 8/24/2015
|  | Confidential Assistant | DB160027 | 1/21/2016
|  | Deputy Assistant Secretary for State and Local Engagement | DB160028 | 1/21/2016
|  | Senior Advisor | DB160029 | 1/21/2016
|  | Director of Digital Content | DB160030 | 2/10/2016
|  | Senior Director of Digital Strategy | DB160046 | 2/19/2016
|  | Senior Communications Advisor | DB160045 | 2/24/2016
|  | Assistant Press Secretary | DB160055 | 3/17/2016
|  | Managing Writer | DB160067 | 4/14/2016
|  | Director of Strategic Media Initiatives | DB160094 | 5/25/2016
| Office of Planning, Evaluation and Policy Development | Deputy Assistant Secretary for P-12 Education | DB150121 | 8/27/2015
|  | Senior Policy Advisor (4) | DB160010 DB160071 DB160072 DB160108 | 11/27/2015 4/19/2016 4/19/2016 6/24/2016
|  | Special Assistant | DB160048 | 3/2/2016
|  | Chief of Staff | DB160073 | 4/19/2016
|  | Confidential Assistant | DB160097 | 6/7/2016
|  | Policy Advisor | DB160100 | 6/10/2016
| Office of Career Technical and Adult Education | Director of Policy | DB160012 | 11/24/2015
|  | Director of Strategic Initiatives | DB160013 | 11/24/2015
|  | Confidential Assistant (2) | DB160017 DB160099 | 12/21/2015 6/16/2016
|  | Chief of Staff | DB160063 | 3/24/2016
|  | Special Assistant | DB160083 | 4/29/2016
| Office of Innovation and Improvement | Strategic Advisor | DB160019 | 12/22/2015
|  | Senior Policy Advisor | DB160047 | 2/26/2016
| Office of Postsecondary Education | Senior Policy Advisor | DB160025 | 1/21/2016
|  | Special Assistant | DB160084 | 5/5/2016
| Office for Civil Rights | Special Projects Manager | DB160066 | 4/1/2016
|  | Confidential Assistant (2) | DB160092 DB160093 | 5/19/2016 5/25/2016
DEPARTMENT OF ENERGY | Office of Management | Special Assistant (2) | DE150094 DE150114 | 7/17/2015 7/31/2015
|  | Senior Advisor | DE150136 | 8/20/2015
| Office of the Assistant Secretary for Congressional and Intergovernmental Affairs | Director of Intergovernmental Affairs | DE150098 | 7/17/2015
| Assistant Secretary for Congressional and Intergovernmental Affairs | Advisor for Intergovernmental and Tribal Affairs | DE150109 | 7/30/2015
|  | Special Assistant (2) | DE150121 DE160007 | 7/30/2015 11/6/2015
|  | Legislative Affairs Advisor (3) | DE150146 DE160070 DE160130 | 10/28/2015 3/4/2016 6/10/2016
|  | Advisor for Intergovernmental and External Affairs (2) | DE160047 DE160082 | 1/21/2016 3/23/2016
|  | Special Advisor (2) | DE160062 DE160131 | 4/14/2016 6/10/2016
| Assistant Secretary for Energy Efficiency and Renewable Energy | Special Advisor | DE150107 | 7/17/2015
|  | Senior Advisor (2) | DE150143 DE160008 | 9/10/2015 10/19/2015
|  | Special Assistant | DE160028 | 11/12/2015
|  | Senior Advisor for External Affairs | DE160045 | 12/18/2015
|  | Special Advisor for External Affairs | DE160076 | 3/8/2016
|  | Deputy Chief of Staff | DE160117 | 5/13/2016
| Office of the Secretary | Special Assistant (3) | DE150097 DE160051 DE160134 | 7/27/2015 1/19/2016 6/17/2016
|  | Special Advisor | DE160015 | 11/6/2015
|  | White House Liaison | DE160043 | 12/10/2015
|  | Deputy White House Liaison and Special Project Manager | DE160050 | 1/8/2016
|  | Special Advisor for Finance and Clean Energy Investment | DE160072 | 3/1/2016
|  | Special Advisor for Clean Energy and Risk Management | DE160133 | 6/30/2016
| Office of the Secretary of Energy Advisory Board | Director and Senior Advisor, Office of Secretarial Boards and Councils | DE150113 | 7/31/2015
|  | Principal Deputy Director | DE150112 | 8/5/2015
|  | Deputy Director | DE160061 | 2/10/2016
| Office of the Assistant Secretary for Nuclear Energy | Senior Advisor | DE150129 | 8/5/2015
| Office of the Assistant Secretary for Nuclear Energy | Senior Communications Advisor | DE150126 | 8/20/2015
|  | Associate Deputy Assistant Secretary for Policy and Small Modular Reactors Commercialization | DE160027 | 12/2/2015
| Office of the Deputy Secretary | Special Assistant (3) | DE150124 DE150125 DE160038 | 8/17/2015 8/17/2015 2/10/2016
|  | Special Advisor for Communications | DE160040 | 12/14/2015
|  | Special Advisor | DE160114 | 5/16/2016
| Loan Programs Office | Director of Strategic Initiatives | DE150108 | 8/20/2015
|  | Special Advisor | DE160030 | 11/13/2015
|  | Senior Advisor | DE160031 | 11/23/2015
| Office of Energy Policy and Systems Analysis | Special Advisor (3) | DE150127 DE160068 DE160079 | 8/20/2015 2/10/2016 3/9/2016
|  | Special Assistant | DE160013 | 11/4/2015
|  | Senior Analyst for Energy Security | DE160116 | 5/10/2016
| Office of Scheduling and Advance | Director, Office of Scheduling and Advance | DE150140 | 9/3/2015
|  | Director of Scheduling | DE160006 | 10/28/2015
|  | Special Assistant and Scheduler | DE160014 | 11/4/2015
|  | Senior Advance Lead | DE160019 | 11/4/2015
|  | Director of Operations | DE160025 | 11/18/2015
|  | Special Assistant (2) | DE160035 DE160046 | 11/24/2015 1/19/2016
|  | Deputy Scheduler | DE160024 | 11/25/2015
|  | Senior Advisor for Strategic Planning | DE160039 | 12/14/2015
| Office of Public Affairs | Press Secretary | DE150141 | 9/29/2015
|  | Deputy Press Secretary (4) | DE150142 DE160059 DE160080 DE160113 | 10/9/2015 2/10/2016 4/18/2016 5/5/2016
|  | Press Assistant | DE160012 | 11/4/2015
|  | Chief Speechwriter | DE160060 | 2/10/2016
|  | Special Advisor for Digital Communications | DE160075 | 3/8/2016
|  | Deputy Director | DE160132 | 6/17/2016
| Office of Economic Impact and Diversity | Special Advisor | DE160002 | 10/14/2015
| Office of Associate Administrator for External Affairs | Press Secretary | DE160010 | 10/16/2015
| Office of Assistant Secretary for International Affairs | Chief of Staff | DE160004 | 11/4/2015
|  | Special Assistant | DE160135 | 6/29/2016
| Office of Assistant Secretary for Fossil Energy | Special Assistant | DE160023 | 11/12/2015
| Office of Under Secretary for Science | Special Advisor | DE160029 | 11/13/2015
| Office of Assistant Secretary for Electricity Delivery and Energy Reliability | Special Advisor | DE160044 | 12/30/2015
|  | Senior Advisor for External Affairs | DE160112 | 5/5/2016
| Office of the Under Secretary | Special Assistant | DE160048 | 1/8/2016
| Office of Technology Transition | Chief of Staff | DE160078 | 3/9/2016
| Office of Science | Special Advisor | DE160086 | 3/30/2016
ENVIRONMENTAL PROTECTION AGENCY | Office of the Associate Administrator for Congressional and Intergovernmental Relations | Special Advisor for Congressional and Intergovernmental Relations | EP150047 | 7/16/2015
|  | Deputy Associate Administrator for Congressional Affairs | EP160020 | 2/12/2016
| Office of Public Affairs | Deputy Press Secretary (2) | EP150048 EP160027 | 8/11/2015 3/30/2016
|  | Deputy Director of Speechwriting | EP160019 | 1/20/2016
| Office of Public Engagement and Environmental Education | Deputy Director for Public Engagement and Public Health Based Initiatives | EP150052 | 9/14/2015
|  | Deputy Associate Administrator for Public Engagement and Environmental Education | EP160037 | 5/12/2016
| Office of the Administrator | Special Advisor | EP150056 | 9/15/2015
|  | Director of Scheduling and Advance | EP160005 | 10/9/2015
|  | Deputy White House Liaison | EP160001 | 10/16/2015
|  | Deputy Chief of Staff for Operations | EP160004 | 10/16/2015
| Scheduling Staff | Deputy Director of Scheduling | EP160009 | 11/18/2015
|  | Scheduler | EP160018 | 3/1/2016
| Advance Staff | Deputy Director for Advance | EP160008 | 11/20/2015
| Office of Information Analysis and Access | Data Analyst | EP160023 | 2/12/2016
EXECUTIVE OFFICE OF THE PRESIDENT | Council on Environmental Quality | Executive Assistant | OP160001 | 10/9/2015
|  | Special Assistant, Climate Preparedness | OP160003 | 3/17/2016
EXPORT-IMPORT BANK | Office of Congressional Affairs | Deputy Director of Intergovernmental Affairs | EB150004 | 7/27/2015
| Office of Communications | Director of Media Relations | EB150005 | 8/26/2015
|  | Director of Speechwriter | EB160002 | 1/15/2016
| Office of the Chairman | Project Manager and Executive Assistant | EB160001 | 11/6/2015
|  | Confidential Assistant | EB160003 | 5/2/2016
FEDERAL ENERGY REGULATORY COMMISSION | Office of the Chairman | Program Analyst | DR150019 | 9/3/2015
|  | Confidential Assistant | DR160002 | 5/31/2016
| Office of General Counsel | Program Analyst | DR160001 | 10/6/2015
FEDERAL MARITIME COMMISSION | Office of the Secretary | Senior Legislative and Public Affairs Specialist | MC160001 | 11/17/2015
FEDERAL MEDIATION AND CONCILIATION SERVICE | Office of the Director | Senior Advisor | FM160002 | 5/3/2016
FEDERAL TRADE COMMISSION | Office of Public Affairs | Public Affairs Specialist | FT150009 | 8/13/2015
GENERAL SERVICES ADMINISTRATION | Pacific Rim Region | Special Assistant | GS150045 | 7/15/2015
| Office of Congressional and Intergovernmental Affairs | Deputy Associate Administrator for Intergovernmental Affairs | GS150046 | 7/16/2015
|  | Deputy Associate Administrator for Policy | GS150052 | 8/21/2015
|  | Policy Advisor | GS160002 | 10/21/2015
| Office of the Regional Administrators | Special Assistant (National Capital Region) | GS150047 | 8/4/2015
| Great Lakes Region | Special Assistant | GS150048 | 8/10/2015
| Mid-Atlantic Region | Special Assistant | GS150050 | 8/14/2015
| Office of the Administrator | Special Assistant (2) | GS150051 GS160022 | 8/21/2015 4/25/2016
|  | Deputy Chief of Staff | GS160025 | 5/16/2016
| Office of Communications and Marketing | Deputy Press Secretary | GS150057 | 10/6/2015
|  | Senior Advisor | GS160003 | 10/21/2015
|  | Press Secretary | GS160021 | 4/22/2016
| Northeast and Caribbean Region | Special Assistant | GS160004 | 12/2/2015
DEPARTMENT OF HEALTH AND HUMAN SERVICES | Office of the Assistant Secretary for Public Affairs | Senior Advisor (2) | DH150163 DH160080 | 7/8/2015 3/22/2016
|  | National Press Secretary for Health Care | DH150171 | 7/15/2015
|  | Confidential Assistant (2) | DH150173 DH150178 | 7/23/2015 8/25/2015
|  | Press Secretary | DH150184 | 8/26/2015
|  | Senior Communications Director | DH160034 | 12/18/2015
|  | Director of Communications, Public Health | DH160048 | 1/4/2016
|  | Director of Speechwriting and Senior Advisor | DH160078 | 3/17/2016
|  | Director of Specialty Media | DH160079 | 3/18/2016
|  | Communications Advisor | DH160150 | 6/13/2016
| Office of the Assistant Secretary for Planning and Evaluation | Senior Advisor | DH150165 | 7/8/2015
| Office of the Secretary | Confidential Assistant (5) | DH150170 DH150179 DH160112 DH160131 DH160145 | 7/10/2015 8/7/2015 4/22/2016 6/2/2016 6/24/2016
|  | Senior Advisor (2) | DH150175 DH160041 | 8/7/2015 1/11/2016
|  | Special Assistant (2) | DH160015 DH160019 | 11/6/2015 11/18/2015
|  | Policy Advisor (2) | DH160039 DH160155 | 1/6/2016 6/17/2016
|  | Deputy White House Liaison | DH160046 | 1/6/2016
|  | White House Liaison for Political Personnel, Boards and Commissions | DH160045 | 1/7/2016
|  | Director of Advance | DH160117 | 4/19/2016
|  | Deputy Scheduler | DH160135 | 5/24/2016
|  | Special Advisor | DH160138 | 5/24/2016
| Administration for Children and Families | Confidential Assistant | DH150172 | 7/15/2015
|  | Special Assistant (4) | DH160011 DH160022 DH160042 DH160136 | 10/30/2015 11/19/2015 1/6/2016 5/25/2016
|  | Senior Advisor | DH160151 | 6/13/2016
| Office of the Assistant Secretary for Health | Chief of Staff | DH150174 | 7/27/2015
|  | Speechwriter | DH150185 | 8/26/2015
|  | Senior Policy Advisor | DH150192 | 10/1/2015
|  | Associate Director for Policy, Office of Minority Health | DH160086 | 4/11/2016
|  | Confidential Assistant | DH160143 | 6/7/2016
| Office of the Assistant Secretary for Legislation | Special Assistant (2) | DH150191 DH160002 | 10/1/2015 10/9/2015
|  | Policy Advisor | DH160040 | 1/6/2016
| Office for Civil Rights | Special Assistant | DH150193 | 10/1/2015
| Centers for Medicare and Medicaid Services | Special Assistant | DH160004 | 10/9/2015
|  | Senior Advisor | DH160016 | 11/9/2015
| Substance Abuse and Mental Health Services Administration | Policy Advisor | DH160008 | 10/21/2015
| Office of the National Coordinator for Health Information Technology | Chief of Staff | DH160006 | 10/26/2015
|  | Director of Communications | DH160056 | 3/3/2016
| Administration for Children, Youth and Families/Office of Commissioner | Senior Policy Advisor | DH160018 | 11/10/2015
| Office of Intergovernmental and External Affairs | Special Assistant | DH160036 | 12/22/2015
| Office of the Deputy Secretary | Chief of Staff | DH160043 | 1/6/2016
|  | Special Assistant | DH160120 | 5/23/2016
| Office of Health Reform | Policy Advisor | DH160118 | 4/19/2016
| National Institutes of Health | Senior Director of External Partnerships | DH160115 | 4/25/2016
|  | Director for Patient Engagement | DH160116 | 4/25/2016
|  | Policy Analyst | DH160140 | 6/21/2016
| Office of Refugee Resettlement/Office of the Director | Chief of Staff | DH160147 | 6/13/2016
| Health Resources and Services Administration Office of the Administrator | Policy Advisor | DH160149 | 6/13/2016
DEPARTMENT OF HOMELAND SECURITY | Office of the General Counsel | Special Counsel | DM150187 | 7/2/2015
|  | Special Assistant (3) | DM150188 DM160244 DM160261 | 7/16/2015 5/5/2016 6/8/2016
|  | Confidential Assistant | DM150212 | 7/21/2015
| Office of the Assistant Secretary for Public Affairs | Assistant Press Secretary (5) | DM150189 DM150221 DM160134 DM160183 DM160224 | 7/8/2015 9/9/2015 2/18/2016 3/30/2016 4/14/2016
|  | Deputy Press Secretary (2) | DM150190 DM150222 | 7/8/2015 8/4/2015
|  | Confidential Assistant | DM150199 | 7/15/2015
|  | Press Assistant | DM150223 | 8/3/2015
|  | Press Secretary | DM150225 | 8/11/2015
|  | Communications Director | DM150244 | 8/21/2015
|  | Director of Strategic Communications | DM150262 | 9/16/2015
|  | Speechwriter | DM160133 | 2/18/2016
|  | Director of Strategic Engagement | DM160184 | 4/15/2016
| Office of the Under Secretary for Science and Technology | Special Assistant for Science and Technology | DM150193 | 7/10/2015
|  | Counselor for Export Controls | DM160107 | 3/1/2016
| Office of the Secretary | Senior Counselor | DM150200 | 7/16/2015
|  | Counselor (3) | DM150224 DM160036 DM160250 | 7/31/2015 12/10/2015 5/25/2016
|  | Special Assistant | DM150226 | 7/31/2015
| Office of the Chief of Staff | Confidential Assistant | DM150210 | 7/21/2015
|  | Special Assistant (2) | DM150229 DM150251 | 8/4/2015 9/3/2015
|  | Deputy White House Liaison (2) | DM160001 DM160145 | 10/2/2015 3/10/2016
|  | Travel Operations Coordinator | DM160028 | 11/12/2015
|  | Advance Officer | DM160033 | 11/16/2015
|  | Senior Advance Officer | DM160223 | 4/14/2016
|  | Counselor | DM160235 | 4/22/2016
|  | Director of Trips of Advance | DM160238 | 5/3/2016
|  | Deputy Director for Trips and Advance | DM160242 | 5/5/2016
| United States Citizenship and Immigration Services | Counselor | DM150214 | 7/21/2015
|  | Special Assistant | DM160197 | 4/13/2016
|  | Advisor | DM160255 | 5/24/2016
| Office of the Under Secretary for National Protection and Programs Directorate | Assistant Director of Legislative Affairs | DM150219 | 7/31/2015
|  | Special Assistant | DM160004 | 10/9/2015
|  | Advisor for Counterterrorism and Intelligence | DM160062 | 12/8/2015
|  | Special Advisor | DM160071 | 12/10/2015
|  | External Engagement Coordinator | DM160140 | 3/4/2016
|  | Confidential Assistant | DM160243 | 5/5/2016
|  | Senior Advisor | DM160252 | 6/16/2016
| Federal Emergency Management Agency | Special Assistant (2) | DM150263 DM150257 | 9/28/2015 10/13/2015
|  | Counselor | DM160105 | 1/20/2016
|  | Press Secretary | DM160270 | 6/27/2016
| Office of the Executive Secretariat | Special Projects Coordinator | DM150265 | 10/1/2015
|  | Deputy Secretary's Briefing Book Coordinator | DM160101 | 1/19/2016
|  | Deputy Secretary's Briefing Book Coordinator | DM160169 | 3/24/2016
|  | Secretary's Briefing Book Coordinator | DM160104 | 1/19/2016
|  | Congressional Correspondence Analyst | DM160109 | 1/21/2016
|  | Special Assistant (2) | DM160108 DM160170 | 1/28/2016 3/24/2016
|  | Senior Advisor | DM160148 | 3/4/2016
| Office of the Assistant Secretary for Policy | Special Assistant (4) | DM160016 DM160018 DM160019 DM160248 | 11/4/2015 11/4/2015 11/4/2015 5/25/2016
|  | Deputy Director for Asia-Pacific | DM160030 | 11/16/2015
|  | Special Assistant Information Sharing Policy | DM160149 | 3/7/2016
|  | Policy Advisor | DM160222 | 4/14/2016
| United States Immigration and Customs Enforcement | Deputy Chief of Staff | DM160029 | 11/20/2015
|  | Special Assistant (2) | DM160181 DM160191 | 3/30/2016 4/1/2016
| Office of Assistant Secretary for Legislative Affairs | Legislative Affairs Specialist | DM160035 | 12/3/2015
|  | Director of Legislative Affairs | DM160110 | 1/20/2016
|  | Intergovernmental Affairs Coordinator | DM160124 | 2/5/2016
|  | Legislative Director | DM160164 | 3/17/2016
|  | Associate Director (2) | DM160165 DM160182 | 3/17/2016 3/30/2016
|  | Director of Legislative and Congressional Affairs | DM160176 | 4/8/2016
| Office of the Assistant Secretary for Intergovernmental Affairs | Intergovernmental Affairs Coordinator (2) | DM160076 DM160171 | 12/15/2015 3/29/2016
|  | Chief of Staff | DM160190 | 4/1/2016
|  | Senior Advisor | DM160227 | 4/19/2016
| Ombudsman, Citizenship and Immigration Services | Special Advisor for Public Engagement | DM160106 | 1/28/2016
|  | Special Assistant | DM160172 | 3/23/2016
| United States Customs and Border Protection | Senior Advisor for Strategic Communication | DM160136 | 3/7/2016
|  | Special Assistant | DM160254 | 5/24/2016
| Transportation Security Administration | Senior Advisor | DM160228 | 4/26/2016
| Office for Civil Rights and Civil Liberties | Advisor | DM160257 | 6/16/2016
DEPARTMENT OF HOUSING AND URBAN DEVELOPMENT | Office of Fair Housing and Equal Opportunity | Special Policy Advisor (2) | DU150066 DU160021 | 7/10/2015 3/29/2016
| Office of the Deputy Secretary | Special Assistant (3) | DU150067 DU160031 DU160036 | 7/24/2015 5/6/2016 5/23/2016
| Office of Public Affairs | Deputy Assistant Secretary for Public Affairs | DU150072 | 8/12/2015
|  | Special Advisor for Public Engagement | DU150071 | 8/20/2015
|  | Director of Strategic Communications | DU150073 | 8/28/2015
|  | Press Secretary | DU160019 | 3/30/2016
|  | Senior Advisor for Public Engagement | DU160026 | 4/14/2016
| Office of the Secretary | Senior Policy Advisor (2) | DU150077 DU160032 | 8/27/2015 5/23/2016
|  | Special Assistant and Briefing Book Coordinator | DU160002 | 10/27/2015
|  | Special Advisor | DU160023 | 4/29/2016
| Office of Public and Indian Housing | Senior Policy Advisor | DU150074 | 9/3/2015
|  | Special Advisor (2) | DU160011 DU160012 | 2/23/2016 2/27/2016
| Office of Field Policy and Management | Senior Advisor | DU150078 | 9/28/2015
| Office of Congressional and Intergovernmental Relations | Senior Advisor | DU150079 | 10/9/2015
|  | Advisor | DU160009 | 2/2/2016
|  | Congressional Relations Specialist | DU160014 | 3/11/2016
| Office of the Administration | Director of Scheduling | DU160003 | 12/2/2015
|  | Advance Coordinator | DU160005 | 1/11/2016
| Office of Housing | Special Assistant | DU160007 | 1/21/2016
|  | Advisor for Single Family Asset Management | DU160033 | 5/10/2016
| Office of Policy Development and Research | Special Advisor | DU160022 | 4/19/2016
DEPARTMENT OF THE INTERIOR | Secretary's Immediate Office | Senior Advisor for Alaskan Affairs | DI150098 | 7/1/2015
|  | Director of Digital Strategy (2) | DI150105 DI150113 | 7/27/2015 7/27/2015
|  | Writer | DI150104 | 7/30/2015
|  | Special Assistant (3) | DI150130 DI160018 DI160027 | 10/9/2015 12/18/2015 2/2/2016
|  | Deputy Director, Intergovernmental Affairs | DI160002 | 10/19/2015
|  | Deputy Director | DI160003 | 11/4/2015
|  | Deputy Director—Advance | DI160016 | 11/24/2015
|  | Advisor for Strategic Partnerships and Diversity Engagement | DI160020 | 12/18/2015
|  | Advisor | DI160026 | 1/21/2016
|  | Deputy Press Secretary | DI160031 | 2/11/2016
| Office of Assistant Secretary—Insular Areas | Advisor | DI150122 | 9/29/2015
| Office of Assistant Secretary—Indian Affairs | Senior Advisor—Indian Affairs (2) | DI150120 DI160032 | 10/9/2015 2/23/2016
|  | Advisor | DI160013 | 12/14/2015
| Office of Congressional and Legislative Affairs | Special Assistant, Office of Congressional and Legislative Affairs | DI150121 | 10/9/2015
|  | Counsel | DI160052 | 4/6/2016
|  | Deputy Director, Office of Congressional and Legislative Affairs | DI160057 | 4/15/2016
| United States Fish and Wildlife Service | Special Assistant | DI150047 | 10/16/2015
| Office of Special Trustee for American Indians | Advisor | DI150125 | 10/28/2015
| Bureau of Ocean Energy Management | Special Assistant | DI160004 | 10/28/2015
|  | Senior Advisor | DI160075 | 6/24/2016
| Office of Assistant Secretary—Fish and Wildlife and Parks | Chief of Staff | DI160010 | 11/2/2015
|  | Advisor | DI160028 | 1/16/2016
| Bureau of Safety and Environmental Enforcement | Advisor | DI160009 | 11/16/2015
| Office of the Deputy Secretary | Advisor | DI160014 | 11/24/2015
| National Park Service | Centennial Program Manager | DI160023 | 12/22/2015
|  | Advisor | DI160024 | 12/22/2015
| Office of Assistant Secretary—Land and Minerals Management | Counselor | DI160067 | 5/16/2016
| Bureau of Land Management | Senior Advisor | DI160070 | 6/1/2016
| Bureau of Reclamation | Special Assistant | DI160073 | 6/9/2016
DEPARTMENT OF JUSTICE | Office on Violence Against Women | Special Assistant | DJ150071 | 7/1/2015
|  | Confidential Assistant (2) | DJ160007 DJ160091 | 10/13/2015 5/6/2016
|  | Advisor | DJ160043 | 1/19/2016
|  | Senior Advisor | DJ160053 | 2/17/2016
| Executive Office for United States Attorneys | Senior Counsel | DJ150097 | 7/1/2015
|  | Counsel | DJ160063 | 3/8/2016
| Office of Legal Policy | Counsel | DJ150101 | 8/5/2015
|  | Senior Policy Advisor | DJ160109 | 5/20/2016
| Office of the Deputy Attorney General | Senior Counsel | DJ150100 | 8/14/2015
|  | Special Assistant (2) | DJ150126 DJ160094 | 8/27/2015 4/29/2016
| Antitrust Division | Chief of Staff (2) | DJ150112 DJ160115 | 8/14/2015 6/7/2016
| Office of Public Affairs | Deputy Speechwriter | DJ150122 | 8/31/2015
|  | Press Secretary and Senior Advisor (2) | DJ160003 DJ160111 | 10/15/2015 5/27/2016
|  | Media Affairs Coordinator | DJ160011 | 11/16/2015
|  | Chief Speechwriter | DJ160054 | 2/18/2016
|  | Deputy Director | DJ160103 | 5/23/2016
|  | Deputy Press Secretary | DJ160113 | 6/7/2016
| Office of the Attorney General | Director of Advance | DJ150129 | 9/18/2015
|  | Special Assistant (2) | DJ160019 DJ160049 | 11/13/2015 1/29/2016
|  | White House Liaison | DJ160026 | 12/4/2015
|  | Director of Scheduling | DJ160041 | 1/14/2016
| Civil Rights Division | Special Assistant (2) | DJ150136 DJ160110 | 9/28/2015 5/24/2016
|  | Senior Counsel (2) | DJ160005 DJ160112 | 10/8/2015 6/3/2016
| Community Relations Service | Senior Counsel | DJ160018 | 11/5/2015
|  | Senior Advisor | DJ160022 | 11/17/2015
| Office of Justice Programs | Senior Policy Advisor (3) | DJ160033 DJ160044 DJ160070 | 12/23/2015 1/21/2016 4/1/2016
|  | Director, Center for Faith-Based and Neighborhood Partnerships | DJ160056 | 2/25/2016
| Office of the Associate Attorney General | Deputy Chief of Staff and Senior Counsel | DJ160032 | 1/6/2016
| Office of Legislative Affairs | Attorney Advisor | DJ160052 | 2/10/2016
|  | Confidential Assistant | DJ160066 | 3/10/2016
DEPARTMENT OF LABOR | Office of the Secretary | Special Assistant (3) | DL150073 DL150080 DL160092 | 7/13/2015 8/13/2015 5/16/2016
|  | Advisor for Private Sector Engagement (2) | DL150078 DL150086 | 8/4/2015 9/11/2015
|  | Special Advisor | DL160010 | 11/5/2015
|  | White House Liaison and Counselor | DL160018 | 1/5/2016
|  | Advisor | DL160046 | 3/1/2016
|  | Advisor for Worker Voice Engagement | DL160061 | 4/1/2016
|  | Senior Policy Advisor | DL160066 | 4/13/2016
|  | Deputy Chief of Staff | DL160070 | 4/18/2016
|  | Policy Advisor | DL160062 | 4/25/2016
|  | Deputy Director of Scheduling and Advance | DL160081 | 4/25/2016
| Office of the Deputy Secretary | Chief of Staff | DL150074 | 7/13/2015
|  | Special Assistant | DL160027 | 1/13/2016
|  | Counselor | DL160050 | 3/8/2016
| Office of Public Affairs | Special Assistant (3) | DL150079 DL160001 DL160002 | 8/27/2015 10/16/2015 10/21/2015
|  | Digital Content Manager | DL160013 | 11/16/2015
|  | Director of Digital Strategy | DL160030 | 1/20/2016
|  | Digital Engagement Director | DL160053 | 3/18/2016
| Employment and Training Administration | Senior Policy Advisor (2) | DL150084 DL160017 | 8/27/2015 11/30/2015
|  | Policy Advisor | DL160089 | 5/13/2016
| Office of Federal Contract Compliance Programs | Special Assistant | DL150085 | 9/2/2015
| Bureau of International Labor Affairs | Special Assistant | DL150089 | 9/17/2015
| Veterans Employment and Training Service | Special Advisor | DL150094 | 10/8/2015
| Office of Congressional and Intergovernmental Affairs | Chief of Staff (2) | DL160020 DL160090 | 12/16/2015 5/13/2016
|  | Senior Counselor | DL160019 | 12/18/2015
|  | Associate Counselor | DL160036 | 3/10/2016
|  | Senior Legislative Officer and Counselor | DL160035 | 3/17/2016
|  | Legislative Officer (2) | DL160054 DL160101 | 3/18/2016 6/29/2016
|  | Senior Legislative Officer (3) | DL160064 DL160065 DL160095 | 4/8/2016 4/8/2016 6/3/2016
| Office of the Assistant Secretary for Policy | Associate Assistant Secretary | DL160024 | 12/28/2015
|  | Senior Policy Advisor | DL160029 | 1/20/2016
|  | Policy Advisor | DL160096 | 6/6/2016
| Mine Safety and Health Administration | Chief of Staff | DL160033 | 1/29/2016
|  | Senior Advisor | DL160082 | 4/25/2016
| Office of Disability Employment Policy | Senior Advisor | DL160032 | 2/5/2016
| Occupational Safety and Health Administration | Senior Advisor | DL160034 | 2/11/2016
| Women's Bureau | Chief of Staff | DL160047 | 3/10/2016
| Employee Benefits Security Administration | Chief of Staff | DL160080 | 4/25/2016
| Office of Workers Compensation Programs | Chief of Staff | DL160086 | 5/13/2016
NATIONAL AERONAUTICS AND SPACE ADMINISTRATION | Office of Legislative and Intergovernmental Affairs | Legislative Affairs Specialist (2) | NN150068 NN160006 | 8/3/2015 12/10/2015
| Office of the Administrator | White House Liaison | NN150073 | 8/25/2015
| Office of Communications | Senior Advisor/Press Secretary | NN160008 | 11/12/2015
|  | Media Relations Specialist | NN160069 | 4/28/2016
NATIONAL ENDOWMENT FOR THE ARTS | Office of the Chairman | Special Assistant for Congressional Affairs/Council Operations | NA150006 | 8/17/2015
|  | Press Secretary | NA160002 | 10/26/2015
|  | Public Affairs Specialist(Social Media) | NA160003 | 10/28/2015
|  | Confidential Assistant | NA160004 | 11/9/2015
|  | White House Liaison/Senior Advisor | NA160006 | 6/22/2016
NATIONAL ENDOWMENT FOR THE HUMANITIES | Office of the Chairman | Digital Communications Strategist | NH160004 | 3/29/2016
NATIONAL TRANSPORTATION SAFETY BOARD | Office of Board Members | Confidential Assistant (3) | TB150006 TB150008 TB160003 | 7/27/2015 9/25/2015 4/13/2016
| Office of the Managing Director | Confidential Assistant | TB150007 | 8/12/2015
OFFICE OF MANAGEMENT AND BUDGET | Office of E-Government and Information Technology | Program Analyst | BO150034 | 7/30/2015
|  | Confidential Assistant | BO160042 | 6/20/2016
| Health Division | Confidential Assistant (2) | BO150037 BO160001 | 8/20/2015 11/4/2015
| Office of Communications | Deputy Associate Director for Communications | BO150038 | 9/4/2015
|  | Press Assistant | BO150040 | 9/15/2015
|  | Assistant Press Secretary | BO160038 | 6/2/2016
| Office of the Director | Senior Advisor | BO150042 | 9/25/2015
|  | Confidential Assistant (6) | BO160008 BO160009 BO160015 BO160022 BO160040 BO160041 | 12/9/2015 12/9/2015 1/12/2016 3/3/2016 6/10/2016 6/10/2016
| Office of Federal Procurement Policy | Confidential Assistant | BO150041 | 10/1/2015
| Staff Offices | Press Secretary | BO160005 | 11/19/2015
| Office of General Government Programs | Confidential Assistant | BO160013 | 1/7/2016
| Office of Legislative Affairs | Deputy for Legislative Affairs | BO160025 | 3/14/2016
| Office of National Security Programs | Confidential Assistant | BO160027 | 3/17/2016
| Office of the General Counsel | Confidential Assistant | BO160029 | 3/29/2016
| Office of the Director | Confidential Assistant | BO160030 | 3/29/2016
| Office of Natural Resource Programs | Confidential Assistant | BO160031 | 3/29/2016
| Office of Education, Income Maintenance and Labor | Confidential Assistant | BO160035 | 4/14/2016
| Office of Information and Regulatory Affairs | Counselor | BO160037 | 5/5/2016
|  | Confidential Assistant | BO160036 | 5/10/2016
OFFICE OF NATIONAL DRUG CONTROL POLICY | Office of State, Local and Tribal Affairs | Policy Specialist (2) | QQ150005 QQ150004 | 9/2/2015 9/4/2015
| Office of Intergovernmental Public Liaison | Digital Engagement Specialist | QQ160001 | 3/11/2016
| Office of Legislative Affairs | Legislative Analyst | QQ160002 | 4/19/2016
OFFICE OF PERSONNEL MANAGEMENT | Office of the Director | Senior Advisor for Innovation | PM120007 | 8/31/2015
| Office of the Director | Executive Assistant (3) | PM160010 PM160021 PM160025 | 12/18/2015 4/15/2016 4/18/2016
|  | Special Assistant | PM160011 | 12/18/2015
|  | Deputy Chief of Staff | PM160013 | 12/22/2015
|  | Senior Advisor | PM160014 | 1/7/2016
|  | Project Manager | PM160027 | 5/25/2016
| Office of Communications | Senior Advisor | PM150027 | 10/14/2015
|  | Public Affairs Specialist | PM160009 | 12/9/2015
|  | Deputy Director of Communication | PM160019 | 3/11/2016
| Office of Congressional, Legislative, and Intergovernmental Affairs | Senior Congressional Relations Officer | PM160005 | 11/4/2015
|  | Senior Advisor | PM160018 | 3/8/2016
| Office of the Chief Information Officer | Special Assistant | PM160004 | 12/9/2015
| Office of Healthcare and Insurance | Program Analyst | PM160015 | 2/17/2016
| Employee Services | Senior Advisor for Workforce Planning and Talent Development | PM160017 | 3/8/2016
OFFICE OF SCIENCE AND TECHNOLOGY POLICY | Office of Science and Technology Policy | Confidential Assistant | TS160005 | 5/12/2016
OFFICE OF THE UNITED STATES TRADE REPRESENTATIVE | Office of Intergovernmental Affairs and Public Liaison | Director for Intergovernmental Affairs | TN150012 | 7/10/2015
|  | Director for Private Sector Engagement | TN160004 | 2/5/2016
| Office of the United States Trade Representative | Special Assistant | TN150013 | 7/10/2015
| Office of the Ambassador | Director of Scheduling and Advance | TN150014 | 7/23/2015
OVERSEAS PRIVATE INVESTMENT CORPORATION | Office of Board of Directors | Senior Advisor | PQ160007 | 3/1/2016
PRESIDENT'S COMMISSION ON WHITE HOUSE FELLOWSHIPS | Office of the Director | Deputy Director, President's Commission on White House Fellowships | WH150002 | 8/31/2015
|  | Associate Director | WH160001 | 10/19/2015
SECURITIES AND EXCHANGE COMMISSION | Office of the Chairman | Executive Correspondence Coordinator | SE150005 | 9/10/2015
SELECTIVE SERVICE SYSTEM | Office of the Director | Chief of Staff | SS160001 | 12/16/2015
SMALL BUSINESS ADMINISTRATION | Office of the Administrator | Idea Lab Director | SB150043 | 7/9/2015
|  | Senior Advisor (4) | SB150042 SB150055 SB160018 SB160025 | 7/10/2015 9/4/2015 3/8/2016 4/28/2016
|  | Special Advisor | SB150045 | 7/30/2015
|  | Director of Advance and Operations | SB160017 | 2/24/2016
|  | Special Assistant (2) | SB160016 SB160019 | 3/4/2016 4/4/2016
| Office of Communications and Public Liaison | Deputy Press Secretary | SB150046 | 7/30/2015
|  | Senior Advisor for Public Engagement | SB160001 | 10/15/2015
|  | Senior Advisor for Strategic Communications | SB160011 | 2/5/2016
|  | Deputy Associate Administrator for Communications and Public Liaison | SB160013 | 2/5/2016
|  | Speech Writer | SB160020 | 3/21/2016
|  | Assistant Administrator for Public Engagement | SB160028 | 5/13/2016
| Office of the Ombudsman | Senior Advisor | SB150048 | 8/3/2015
| Office of Capital Access | Special Advisor | SB150051 | 8/5/2015
|  | Senior Advisor | SB150053 | 9/3/2015
| Office of Native American Affairs | Assistant Administrator for Native American Affairs (2) | SB150054 SB160022 | 9/3/2015 4/6/2016
| Office of Government Contracting and Business Development | Senior Advisor | SB150057 | 9/17/2015
|  | Special Advisor | SB160029 | 5/13/2016
| Office of Investment and Innovation | Special Advisor | SB150059 | 9/29/2015
| Office of Congressional and Legislative Affairs | Legislative Policy Advisor | SB160002 | 10/6/2015
| Office of Field Operations | Regional Administrator, Region VIII, Denver, Colorado | SB160008 | 1/13/2016
|  | Senior Advisor | SB160021 | 4/1/2016
SOCIAL SECURITY ADMINISTRATION | Office of the Commissioner | Senior Advisor | SZ160006 | 1/5/2016
DEPARTMENT OF STATE | Office of the United States Global Aids Coordinator | Senior Advisor (2) | DS150087 DS150121 | 7/1/2015 9/29/2015
|  | Director of Public Affairs and Communications | DS160022 | 12/31/2015
| Bureau of Public Affairs | Staff Assistant (2) | DS150104 DS160044 | 7/2/2015 2/19/2016
|  | Supervisory Public Affairs Specialist | DS150107 | 7/21/2015
|  | Public Affairs Specialist | DS160088 | 4/28/2016
|  | Deputy Assistant Secretary | DS160101 | 5/23/2016
| Office of the Under Secretary for Management | White House Liaison | DS150103 | 7/8/2015
|  | Staff Assistant | DS160008 | 11/20/2015
| Office to Monitor and Combat Trafficking In Persons | Public Affairs Specialist | DS150067 | 7/10/2015
|  | Staff Assistant | DS160106 | 6/8/2016
| Bureau of Legislative Affairs | Legislative Management Officer (2) | DS150097 DS150125 | 7/10/2015 9/25/2015
|  | Deputy Assistant Secretary | DS150113 | 9/2/2015
|  | Principal Deputy Assistant Secretary | DS160060 | 3/18/2016
| Office of the Deputy Secretary | Special Assistant | DS150105 | 7/14/2015
| Office of the Secretary | Staff Assistant (2) | DS150106 DS160013 | 7/14/2015 12/1/2015
|  | Special Assistant (2) | DS150091 DS160062 | 9/29/2015 4/6/2016
|  | Program Analyst | DS160045 | 2/5/2016
|  | Senior Advisor | DS150108 | 2/29/2016
| Bureau of East Asian and Pacific Affairs | Special Assistant | DS150094 | 7/15/2015
| Bureau of International Narcotics and Law Enforcement Affairs | Senior Advisor | DS150092 | 7/17/2015
| Foreign Policy Planning Staff | Writer-Editor (Speechwriter) | DS150110 | 7/27/2015
| Office of the Chief of Protocol | Protocol Officer (Visits) | DS150111 | 7/29/2015
| Bureau of European and Eurasian Affairs | Deputy Assistant Secretary | DS150086 | 7/30/2015
| Office of the Under Secretary for Economic Growth, Energy, and the Environment | Special Envoy and Coordinator for International Energy Affairs | DS150116 | 8/14/2015
| Bureau of Arms Control, Verification, and Compliance | Public Affairs Specialist | DS150117 | 8/21/2015
| Bureau of South and Central Asian Affairs | Deputy Assistant Secretary | DS150119 | 8/25/2015
| Office of the Global Women's Issues | Staff Assistant (3) | DS150114 DS160048 DS160084 | 8/26/2015 2/19/2016 4/18/2016
|  | Special Assistant | DS160098 | 5/19/2016
| Bureau of Western Hemisphere Affairs | Deputy Assistant Secretary | DS150120 | 8/26/2015
| Office of International Information Programs | Information Technology Specialist | DS150112 | 9/10/2015
| Bureau for Education and Cultural Affairs | Special Assistant | DS150123 | 9/25/2015
| Bureau of Democracy, Human Rights and Labor | Senior Advisor | DS150124 | 9/25/2015
| Bureau for Education and Cultural Affairs | Supervisory Public Affairs Specialist | DS150129 | 9/25/2015
| Bureau of Economic and Business Affairs | Senior Advisor | DS150130 | 9/25/2015
| Bureau of Democracy, Human Rights and Labor | Foreign Affairs Officer | DS160002 | 10/8/2015
|  | Special Assistant | DS160003 | 10/13/2015
| Office of the Under Secretary for Arms Control and International Security Affairs | Senior Advisor (2) | DS150101 DS150102 | 10/9/2015 10/9/2015
|  | Staff Assistant | DS160103 | 5/26/2016
| Foreign Policy Planning Staff | Special Assistant (Speechwriter) | DS150132 | 10/15/2015
|  | Staff Assistant (2) | DS160019 DS160085 | 12/15/2015 4/18/2016
|  | Foreign Affairs Officer (2) | DS160020 DS160024 | 12/16/2015 1/13/2016
|  | Senior Advisor (4) | DS160064 DS160081 DS160112 DS160115 | 3/30/2016 4/14/2016 6/15/2016 6/22/2016
| Office of the Under Secretary for Public Diplomacy and Public Affairs | Writer-Editor (Speechwriter) | DS150131 | 10/16/2015
|  | Staff Assistant | DS160061 | 3/18/2016
| Bureau of Western Hemisphere Affairs | Foreign Affairs Officer | DS160005 | 10/23/2015
| Bureau of Political and Military Affairs | Writer-Editor (Speechwriter) | DS150134 | 10/30/2015
| Office of the Lead Coordinator for Iran Nuclear Implementation | Staff Assistant | DS160007 | 10/30/2015
|  | Foreign Affairs Officer | DS160009 | 11/17/2015
|  | Deputy Lead Coordinator | DS160010 | 11/17/2015
| Office of the Chief of Protocol | Protocol Officer (Visits) | DS160011 | 11/13/2015
|  | Protocol Officer (Ceremonials) | DS160021 | 1/19/2016
|  | Public Affairs Specialist | DS160087 | 4/25/2016
|  | Protocol Officer | DS160090 | 5/5/2016
| Bureau of African Affairs | Senior Advisor | DS160014 | 12/1/2015
| Bureau of Energy Resources | Deputy Assistant Secretary | DS160016 | 12/4/2015
| Bureau of Arms Control, Verification, and Compliance | Public Affairs Specialist | DS160023 | 1/6/2016
| Bureau for Education and Cultural Affairs | Deputy Assistant Secretary | DS160015 | 1/7/2016
| Office of the Deputy Secretary for Management and Resources | Senior Advisor | DS160056 | 3/3/2016
| Bureau of East Asian and Pacific Affairs | Deputy Assistant Secretary for Multilateral Affairs and Strategy | DS160054 | 3/4/2016
| Bureau of Economic and Business Affairs | Senior Advisor (Speechwriter) | DS160057 | 3/4/2016
|  | Special Representative for Commercial and Business Affairs | DS160104 | 5/27/2016
|  | Special Assistant | DS160117 | 6/30/2016
| Office of International Information Programs | Staff Assistant | DS160058 | 3/14/2016
| Office of the Under Secretary for Public Diplomacy and Public Affairs | Senior Advisor | DS160082 | 4/21/2016
| Office of the Coordinator for Counterterrorism | Deputy Coordinator | DS160093 | 5/9/2016
| Office of the Special Representative for Global Partnership Initiative | Senior Advisor | DS160100 | 5/23/2016
| Bureau of Oceans and International Environmental and Scientific Affairs | Staff Assistant | DS160096 | 5/26/2016
| Office of the Counselor | Special Assistant | DS160107 | 6/3/2016
| Bureau of International Security and Nonproliferation | Staff Assistant | DS160108 | 6/3/2016
| Bureau of Legislative Affairs | Deputy Assistant Secretary | DS160109 | 6/3/2016
TRADE AND DEVELOPMENT AGENCY | Office of the Director | Director of Public Engagement | TD160001 | 10/27/2015
|  | Senior Advisor | TD160002 | 5/5/2016
|  | Chief of Staff | TD160003 | 5/24/2016
DEPARTMENT OF TRANSPORTATION | Office of Public Affairs | Press Secretary (2) | DT150076 DT160062 | 8/3/2015 4/28/2016
|  | Chief Speechwriter | DT160038 | 3/4/2016
|  | Deputy Press Secretary | DT160045 | 3/11/2016
|  | Deputy Director for Public Affairs | DT160049 | 4/12/2016
| Office of the Chief Information Officer | Special Advisor | DT150077 | 8/17/2015
| Office of the Assistant Secretary for Governmental Affairs | Deputy Assistant Secretary for Governmental Affairs | DT150078 | 8/17/2015
|  | Director of Governmental Affairs, Budget and Programs | DT160018 | 12/21/2015
|  | Director of Governmental Affairs | DT160041 | 3/11/2016
|  | Associate Director for Governmental Affairs | DT160042 | 4/1/2016
| Office of the Secretary | Deputy White House Liaison | DT150081 | 8/24/2015
|  | Special Assistant (Scheduling and Advance) (2) | DT150083 DT150084 | 9/15/2015 9/15/2015
|  | Director of Scheduling | DT160008 | 11/10/2015
|  | White House Liaison | DT160068 | 6/10/2016
| Office of Assistant Secretary for Transportation Policy | Policy Advisor and Director of Strategic Initiatives | DT160004 | 11/4/2015
|  | Deputy Assistant Secretary for Transportation Policy | DT160014 | 12/11/2015
|  | Senior Policy Advisor | DT160060 | 4/15/2016
| Immediate Office of the Administrator | Associate Administrator for External Affairs and Senior Advisor | DT160006 | 11/4/2015
|  | Advisor for Governmental Affairs | DT160012 | 11/25/2015
|  | Director of Communications | DT160043 | 3/18/2016
|  | Special Advisor | DT160046 | 4/1/2016
|  | Associate Administrator for Communications and Legislative Affairs | DT160065 | 6/10/2016
|  | Special Assistant | DT160007 | 11/4/2015
| Office of the General Counsel | Associate General Counsel | DT160017 | 12/17/2015
|  | Special Counsel | DT160044 | 3/11/2016
| Office of Civil Rights | Special Assistant | DT160025 | 1/28/2016
| Office of the Assistant Secretary for Aviation and International Affairs | Policy Advisor | DT160050 | 4/15/2016
| Office of the Assistant Secretary for Administration | Deputy Assistant Secretary for Management and Administration | DT160067 | 6/10/2016
DEPARTMENT OF THE TREASURY | Office of the Assistant Secretary (Public Affairs) | Press Assistant | DY150106 | 7/8/2015
|  | Media Affairs Specialist | DY150107 | 7/8/2015
|  | Spokesperson (5) | DY150109 DY150115 DY150114 DY160061 DY160063 | 7/8/2015 7/9/2015 7/14/2015 3/1/2016 3/25/2016
|  | Confidential Assistant | DY150134 | 8/27/2015
|  | Senior Advisor (3) | DY150137 DY160017 DY160078 | 9/3/2015 12/10/2015 4/25/2016
|  | Senior Speechwriter (2) | DY160012 DY160065 | 11/13/2015 3/24/2016
|  | Special Assistant | DY160014 | 11/17/2015
| Office of the Secretary of the Treasury | Senior Advisor (5) | DY150112 DY160004 DY160060 DY160062 DY160097 | 7/8/2015 10/9/2015 3/1/2016 3/1/2016 6/20/2016
|  | Deputy Executive Secretary (2) | DY150133 DY150144 | 8/20/2015 9/16/2015
|  | Special Advisor | DY150147 | 9/30/2015
|  | Special Assistant (3) | DY160002 DY160024 DY160096 | 10/2/2015 1/19/2016 6/17/2016
|  | Associate Director (3) | DY160003 DY160079 DY160081 | 10/9/2015 4/21/2016 4/21/2016
|  | Deputy White House Liaison (2) | DY160041 DY160082 | 2/5/2016 4/22/2016
| Office of the Assistant Secretary (Legislative Affairs) | Senior Advisor for Housing | DY150116 | 7/14/2015
|  | Special Advisor (3) | DY150120 DY150121 DY150136 | 7/17/2015 7/17/2015 9/2/2015
|  | Special Assistant (3) | DY160022 DY160080 DY160099 | 1/11/2016 4/21/2016 6/30/2016
| Office of the Assistant Secretary for International Finance | Special Assistant | DY150119 | 7/17/2015
| Office of the Under Secretary for Domestic Finance | Policy Advisor | DY160016 | 12/10/2015
|  | Special Advisor | DY160019 | 12/18/2015
|  | Outreach Manager | DY160040 | 2/10/2016
| Office of the Assistant Secretary for Management | Special Assistant (2) | DY160018 DY160030 | 12/10/2015 1/21/2016
|  | Confidential Assistant | DY160034 | 2/2/2016
| United States Mint | Senior Advisor | DY160036 | 2/2/2016
| Office of the Under Secretary for International Affairs | Senior Advisor | DY160085 | 4/26/2016
UNITED STATES INTERNATIONAL TRADE COMMISSION | Office of Commissioner Broadbent | Confidential Assistant | TC150005 | 8/25/2015
|  | Staff Assistant (Economics) | TC150006 | 8/25/2015
| Office of the Vice Chairman | Confidential Assistant | TC160003 | 1/14/2016
| Office of Commissioner Schmidtlein | Confidential Assistant | TC160004 | 5/3/2016
DEPARTMENT OF VETERANS AFFAIRS | Office of the Assistant Secretary for Public and Intergovernmental Affairs | Press Secretary | DV150046 | 7/1/2015
| Office of the Assistant Secretary for Policy and Planning | Director Insight and Design | DV150056 | 9/4/2015
|  | Director Special Programs | DV150057 | 9/4/2015
| Office of the Secretary and Deputy | Special Assistant | DV150062 | 10/1/2015
|  | Senior Advisor for Management Initiatives and White House Liaison | DV160015 | 12/22/2015
| Office of the Assistant Secretary for Government Relations | Director, Outreach (2) | DV150065 DV160007 | 10/1/2015 11/13/2015
|  | Special Assistant | DV160039 | 4/22/2016
| Office of Intergovernmental Affairs | Special Assistant | DV160025 | 3/10/2016
| Office of Public Affairs | Special Advisor | DV160033 | 4/6/2016

Authority: 5 U.S.C. 3301 and 3302; E.O.10577, 3 CFR, 1954-1958 Comp., p.218.

Office of Personnel Management.
Jeff T.H. Pon,
Director.

[FR Doc. 2018-09303 Filed 5-1-18; 8:45 am]

BILLING CODE 6325-39-P